DEPARTMENT OF TRANSPORTATION

Office of the Secretary

Notice of Applications for Certificates of Public Convenience and Necessity and Foreign Air Carrier Permits Filed Under Subpart B (formerly Subpart Q) During the Week Ending August 4, 2006

The following Applications for Certificates of Public Convenience and Necessity and Foreign Air Carrier Permits were filed under Subpart B (formerly Subpart Q) of the Department of Transportation's Procedural Regulations (See 14 CFR 301.201 et. seq.). The due date for Answers, Conforming Applications, or Motions To Modify Scope are set forth below for each application. Following the Answer period DOT may process the application by expedited procedures. Such procedures may consist of the adoption of a show-cause order, a tentative order, or in appropriate cases a final order without further proceedings.

Docket Number: OST-1996-1371.

Date Filed: August 1, 2006.

Due Date for Answers, Conforming Applications, or Motion To Modify Scope: August 22, 2006.

Description: Application of Delta Air Lines, Inc. requesting renewal of its certificate authority to engage in scheduled foreign air transportation of persons, property and mail between the terminal point Atlanta, GA, and the coterminal points Madrid, Barcelona, Malaga and Palma de Mallorca, Spain which are foreign points named on segment 5 of Delta's certificate for Route 178.

Docket Number: OST-2001-9855.

Date Filed: August 1, 2006.

Due Date for Answers, Conforming Applications, or Motion To Modify Scope: August 22, 2006.

Description: Application of Delta Air Lines, Inc. requesting renewal of its certificate authority to provide foreign air transportation of persons, property and mail between the United States and Athens, Greece, which is a foreign point named on segments 3 and 9 of Delta's certificate for Route 616.

Docket Number: OST-2004-19617.

Date Filed: August 3, 2006.

Due Date for Answers, Conforming Applications, or Motion To Modify Scope: August 24, 2006.

Description: Application of EOS Airlines, Inc. requesting that its certificate for public convenience and necessity be amended by adding an additional route “between the United States via intermediate points, on the one hand, and Switzerland and beyond, on the other hand” and that it be designated to serve the United States-Switzerland market under the bilateral.

Docket Number: OST-2006-25562.

Date Filed: August 3, 2006.

Due Date for Answers, Conforming Applications, or Motion To Modify Scope: August 24, 2006.

Description: Application of Jordan International Air Cargo requesting an exemption and a foreign air carrier permit authorizing it to provide the following service: (1) Charter foreign air transportation of persons, property and mail between any point or points in Jordan and any point or points in the United States; and between any point or points in the United States and any point or points in third country or countries, provided that such service constitutes part of a continuous operation, with or without a change of aircraft, that includes air service to Jordan for the purpose of carrying local traffic between Jordan and the United States; and (2) other charters between third countries and the United States.

Renee V. Wright,
Program Manager, Docket Operations, Federal Register Liaison.

[FR Doc. E6-13880 Filed 8-21-06; 8:45 am]

BILLING CODE 4910-9X-P